DEPARTMENT OF HOMELAND SECURITY

Coast Guard

46 CFR Parts 10 and 11

[Docket No. USCG-2006-24371]

RIN 1625-AB02

Consolidation of Merchant Mariner Qualification Credentials; Corrections

AGENCY: Coast Guard, DHS.

ACTION: Final rule, correction.

SUMMARY: The Coast Guard published a document in the Federal Register on March 16, 2009 (74 FR 11196), consolidating regulations concerning the issuance of merchant mariner credentials. That document contained several non-substantive errors, including an improperly worded amendatory instruction. This document corrects those errors.

DATES: This final rule is effective August 6, 2009.

FOR FURTHER INFORMATION CONTACT: If you have questions on this rule, call Mayte Medina, Coast Guard, telephone 202-372-1406. If you have questions on viewing the docket, call Renee V. Wright, Program Manager, Docket Operations, telephone 202-366-9826.

SUPPLEMENTARY INFORMATION: The document published in the Federal Register on March 16, 2009 (74 FR 11196), contained errors that this document corrects.

We are making the following corrections in part 10. In § 10.109, we are reinserting three STCW endorsements that were erroneously left out of the final rule. In § 10.211, the Coast Guard discussed the date change in the final rule (74 FR 11197). However, when making the date change, we inadvertently missed this instance. In § 10.213, the change in the footnote to Table 12.213(c) is a correction to a cross-reference, which the Coast Guard inadvertently missed when we revised part 10 in the final rule. In § 10.227, we are correcting a similar cross-reference correction. In § 10.235, we are making corrections to clarify the language in that section.

We are making the following corrections in part 11. In § 11.102, we are correcting those sections where material that has been incorporated by reference may be found in part 11. In § 11.104, we are removing redundancy by eliminating definitions that already appear at the beginning of the subchapter in § 10.107. Finally, in the final rule, the amendatory instruction for § 11.601 incorrectly referred to paragraphs (a) through (c) (79 FR 11252). We have included the correct amendatory language here.

None of the above listed corrections are substantive in nature.

List of Subjects

46 CFR Part 10

Incorporation by reference, Penalties, Reporting and recordkeeping requirements, Seamen, Transportation Worker Identification Card.

46 CFR Part 11

Incorporation by reference, Penalties, Reporting and recordkeeping requirements, Schools, Seamen.

For the reasons discussed above, the Coast Guard corrects 46 CFR parts 10 and 11 as follows:

PART 10—MERCHANT MARINER CREDENTIAL

1. The authority citation for part 10 continues to read as follows:

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

2. In § 10.109, add paragraphs (d)(15), (16), and (17) to read as follows:

§ 10.109 Classification of endorsements.

* * * * *

(d) * * *

(15) Tankerman PIC.

(16) Tankerman assistant.

(17) Tankerman engineer.

3. In § 10.211(c), remove the words “September 25, 208” and add, in their place, the words “April 15, 2009”.

§ 10.213 [Amended]

4. In § 10.213, in the first footnote of Table 10.213(c), remove the cross-reference “(a)” after the word “paragraph” and add, in its place, the cross-reference “(f)”.

§ 10.227 [Amended]

5. In § 10.227, in paragraph (g)(1), remove the cross-reference “(g)” after the word “paragraph” and add, in its place, the cross-reference “(d)(8)”.

§ 10.235 [Amended]

6. In § 10.235—

a. In paragraph (b), in the first and second sentences, after the words “applied for as an original”, add the words “following the procedures of §§ 5.901-5.905 of this subchapter”;

b. In paragraph (d), after the words “revoked, the mariner”, remove the words “may apply for” and add, in their place, the words “will be issued”; and

c. In paragraph (h), remove the word “non-administrative” and add, in its place, the words “a reason, other than administrative”.

PART 11—REQUIREMENTS FOR OFFICER ENDORSEMENTS

7. The authority citation for part 11 continues to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

§ 11.102 [Amended]

8. In § 11.102—

a. In paragraph (b)(1), remove “11.603;”.

b. In paragraph (b)(2), after “11.304,”, add “11.603,”.

§ 11.104 [Removed and Reserved]

9. Remove and reserve § 11.104.

10. Revise § 11.601 to read as follows:

§ 11.601 Applicability.

This subpart provides for endorsement as radio officers for employment on vessels, and for the issue of STCW endorsements for those qualified to serve as radio operators on vessels subject to the provisions on the Global Maritime Distress and Safety System (GMDSS) of Chapter IV of SOLAS. SOLAS is available from the International Maritime Organization (IMO), 4 Albert Embankment, London SE1 7SR, England, telephone: +44 (0)20 7735 7611, http://www.imo.org.

Dated: July 30, 2009.
Stefan G. Venckus,
Chief, Office of Regulations and Administrative Law, United States Coast Guard.

[FR Doc. E9-18747 Filed 8-5-09; 8:45 am]

BILLING CODE 4910-15-P